DEPARTMENT OF INTERIOR

Bureau of Indian Affairs

[190A2100DD/A0A501010.999900 253G]

Land Acquisitions; Arapaho Tribe of the Wind River Reservation, Wyoming

AGENCY: Bureau of Indian Affairs, Interior.

ACTION: Notice.

SUMMARY: The Principal Deputy Assistant Secretary—Indian Affairs made a final agency determination to acquire 6.3 acres, more or less, of land within the boundaries of the Wind River Reservation in trust for the Arapaho Tribe of the Wind River Reservation, Wyoming, for gaming and other purposes on December 21, 2018.

FOR FURTHER INFORMATION CONTACT: Ms. Paula L. Hart, Director, Office of Indian Gaming, Bureau of Indian Affairs, MS-3657 MIB, 1849 C Street NW, Washington, DC 20240, telephone (202) 219-4066.

SUPPLEMENTARY INFORMATION: This notice is published in the exercise of authority delegated by the Secretary of the Interior to the Principal Deputy Assistant Secretary—Indian Affairs by 209 Departmental Manual 8.1, and is published to comply with the requirements of 25 CFR 151.12(c)(2)(ii) that notice of the decision to acquire land in trust be promptly provided in the Federal Register.

On December 21, 2018, the Principal Deputy Assistant Secretary—Indian Affairs issued a decision to accept 6.3 acres, more or less, of land in trust for the Arapaho Tribe of the Wind River Reservation, Wyoming, (Tribe) under the authority of the Act of July 27, 1939, 53 Stat. 1128-1130, as amended by Public Law 103-435, 15, 108 Stat. 4573 (Nov. 2, 1994) (formerly codified at 25 U.S.C. 571-581). The Principal Deputy Assistant Secretary—Indian Affairs determined that the Tribe's request also meets the requirements of the Indian Gaming Regulatory Act's “within reservation boundaries exception,” 25 U.S.C. 2719(a)(1), to the general prohibition contained in 25 U.S.C. 2719(a) on gaming on lands acquired in trust after October 17, 1988.

The Principal Deputy Assistant Secretary—Indian Affairs, on behalf of the Secretary of the Interior, will immediately acquire title to the 6.3 acres, more or less, in the name of the United States of America in trust for the Tribe upon fulfillment of Departmental requirements.

The site submitted for gaming and other purposes is comprised of 6.3 acres, more or less, located in Lot 14, Section 10, Township 1 South, Range 4 East, Wind River Meridian, Fremont County, Wyoming, more particularly described as follows:

Beginning at the NW corner of Lot 14, said Section 10, thence N 89°38′ E, along the North line of said Lot 14, 488.17 feet to the Westerly right-of-way line of State Highway 789; thence S 23°14′30″ West along said right-of-way line, 1227.94 feet to the West line of said Lot 14; thence N 0°11′ W, along said West line 1125.17 feet to the point of beginning of this description. Containing 6.30 acres, more or less.

Dated: December 21, 2018.
John Tahsuda,
Principal Deputy Assistant Secretary—Indian Affairs.

[FR Doc. 2019-02187 Filed 2-12-19; 8:45 am]

BILLING CODE 4337-15-P